DEPARTMENT OF ENERGY

Federal Energy Regulatory Commission

[Docket No. RP01-87-000]

Fitchburg Gas and Electric Light Company v. Tennessee Gas Pipeline Company; Notice of Complaint

November 15, 2000.

Take notice that on November 13, 2000, Fitchburg Gas and Electric Light Company (Fitchburg) tendered for filing a Complaint against Tennessee Gas Pipeline Company (Tennessee). The Fitchburg complaint asserts that Tennessee has unreasonably refused to waive certain restriction contained in Section 3.4(c) of its FS Rate Schedule and that Tennessee's failure to grant a waiver will interfere with Fitchburg's implementation of its state unbundling program. Fitchburg requests that the Commission order Tennessee to waive or modify its tariff to remove the limitation on a customer's right to release its capacity when the release is required by a state imposed mandatory capacity assignment program.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before November 24, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before November 24, 2000. Comments and protests may be filed electronically via the internet in lieu of paper. See, 18 CFR 385.2001(a)(1)(iii) and the instructions on the Commission's web site at

http://www.ferc.fed.us/efi/doorbell.htm.

Linwood A. Watson, Jr.,
Acting Secretary.

[FR Doc. 00-29682 Filed 11-20-00; 8:45 am]

BILLING CODE 6717-01-M